DEPARTMENT OF COMMERCE

International Trade Administration

[A-570-846]

Brake Rotors From the People's Republic of China: Initiation of New Shipper Review

AGENCY: Import Administration, International Trade Administration, Department of Commerce.

EFFECTIVE DATE: May 30, 2006.

SUMMARY: The Department of Commerce (the “Department”) has determined that a request for a new shipper review of the antidumping duty order on brake rotors from the People's Republic of China (“PRC”), received on March 16, 2006, meets the statutory and regulatory requirements for initiation. The period of review (“POR”) of this new shipper review is April 1, 2005, through March 31, 2006.

FOR FURTHER INFORMATION CONTACT: Ann Fornaro or Blanche Ziv at (202) 482-3927 and (202) 482-4207, respectively, AD/CVD Operations, Office 8, Import Administration, International Trade Administration, U.S. Department of Commerce, 14th Street and Constitution Avenue, NW., Washington, DC 20230.

SUPPLEMENTARY INFORMATION:

Background

The notice announcing the antidumping duty order on brake rotors from the PRC was published on April 17, 1997. See Notice of Antidumping Duty Order: Brake Rotors from the People's Republic of China, 62 FR 18740 (April 17, 1997). On March 16, 2006, we received a request for a new shipper review from Qingdao Golrich Autoparts Co., Ltd. (“Golrich”). Golrich certified that it produced and exported the brake rotors on which it based its request for a new shipper review.

Initiation of New Shipper Review

Pursuant to section 751(a)(2)(B)(i)(I) of the Tariff Act of 1930, as amended (“the Act”), and 19 CFR 351.214(b)(2)(i), Golrich certified that it did not export brake rotors to the United States during the period of investigation (“POI”). Pursuant to section 751(a)(2)(B)(i)(II) of the Act and 19 CFR 351.214(b)(2)(iii)(A), Golrich certified that, since the initiation of the investigation, it had never been affiliated with any exporter or manufacturer who exported brake rotors to the United States during the POI, including those not individually examined during the investigation. As required by 19 CFR 351.214(b)(2)(iii)(B), Golrich also certified that its export activities were not controlled by the central government of the PRC.

In addition to the certifications described above, Golrich submitted documentation establishing the following: (1) The date on which it first shipped brake rotors for export to the United States and the date on which the brake rotors were first entered, or withdrawn from warehouse, for consumption; (2) the volume of its first shipment and the volume of subsequent shipments; and (3) the date of its first sale to an unaffiliated customer in the United States.

Pursuant to section 751(a)(2)(B) of the Act and 19 CFR 351.214(d)(1), we find that the request submitted by Golrich meets the threshold requirements for initiation of a new shipper review for shipments of brake rotors from the PRC produced and exported by this company. The POR is April 1, 2005, through March 31, 2006. See 19 CFR 351.214(g)(1)(i)(A). We intend to issue preliminary results of this review no later than 180 days from the date of initiation, and final results of this review no later than 270 days from the date of initiation. See Section 751(a)(2)(B)(iv) of the Act.

Because Golrich has certified that it manufactured and exported the brake rotors on which it based its request for a new shipper review, we will instruct U.S. Customs and Border Protection (“CBP”) to allow, at the option of the importer, the posting of a bond or security in lieu of a cash deposit for each entry of brake rotors both manufactured and exported by Golrich until the completion of the new shipper review, pursuant to section 751(a)(2)(B)(iii) of the Act.

Interested parties that need access to proprietary information in this new shipper review should submit applications for disclosure under administrative protective order in accordance with 19 CFR 351.305 and 351.306.

This initiation and notice are issued in accordance with section 751(a)(2)(B) of the Act and 19 CFR 351.214 and 351.221(c)(1)(i).

Dated: May 23, 2006.
Stephen J. Claeys,
Deputy Assistant Secretary for Import Administration.

[FR Doc. E6-8277 Filed 5-26-06; 8:45 am]

BILLING CODE 3510-DS-S